DEPARTMENT OF HOMELAND SECURITY

Coast Guard

33 CFR Part 117

[Docket No. USCG-2010-0800]

Drawbridge Operation Regulation; Atlantic Intracoastal Waterway, Camp Lejeune, NC

AGENCY: Coast Guard, DHS.

ACTION: Notice of temporary deviation from regulations.

SUMMARY: The Commander, Fifth Coast Guard District, has issued a temporary deviation from the regulations governing the operation of the Onslow Beach Swing Bridge, across the Atlantic Intracoastal Waterway, mile 240.7, at Camp Lejeune, NC. The deviation is necessary to facilitate urgent replacement of the main hydraulic system. This deviation allows the bridge to be in the closed-to-navigation position.

DATES: This deviation is effective from 1 a.m. on September 8, 2010 to 11:59 p.m. on September 14, 2010.

ADDRESSES: Documents mentioned in this preamble as being available in the docket are part of docket USCG-2010-0800 and are available online by going to http://www.regulations.gov, inserting USCG-2010-0800 in the “Keyword” box and then clicking “Search”. They are also available for inspection or copying at the Docket Management Facility (M-30), U.S. Department of Transportation, West Building Ground Floor, Room W12-140, 1200 New Jersey Avenue SE., Washington, DC 20590, between 9 a.m. and 5 p.m., Monday through Friday, except Federal holidays.

FOR FURTHER INFORMATION CONTACT: If you have questions on this rule, call or e-mail Bill H. Brazier, Bridge Management Specialist, Fifth Coast Guard District; telephone 757-398-6422, e-mail Bill.H.Brazier@uscg.mil. If you have questions on viewing the docket, call Renee V. Wright, Program Manager, Docket Operations, telephone 202-366-9826.

SUPPLEMENTARY INFORMATION: The Onslow Beach Swing Bridge at Atlantic Intracoastal Waterway, mile 240.7, at Camp Lejeune NC, has a vertical clearance in the closed position to vessels of approximately 12 feet, above mean high water.

The U.S. Marine Corps at Camp Lejeune NC, who owns and operates this swing-type drawbridge, has requested a temporary deviation from the current operating regulations set out in 33 CFR 117.821(a)(1) to facilitate urgent replacement of the main hydraulic system.

Under this temporary deviation, the Onslow Beach Swing Bridge will be maintained in the closed-to-navigation position from 1 a.m. on Wednesday, September 8, 2010 through 11:59 p.m. on Tuesday, September 14, 2010.

Vessels that can pass under the bridge without a bridge opening may do so at anytime. There are no alternate routes for vessels transiting this section of the Atlantic Intracoastal Waterway and the drawbridge will be unable to open in the event of an emergency.

The Coast Guard has coordinated the restrictions with the local users of the waterway, the Steamship Trade Committee, the Virginia Maritime Association, and marinas and will inform unexpected users through our Local and Broadcast Notices to Mariners of the closure period for the bridge so that vessels can arrange their transits to minimize any impact caused by the temporary deviation.

In accordance with 33 CFR 117.35(e), the drawbridge must return to its regular operating schedule immediately at the end of the designated time period. This deviation from the operating regulations is authorized under 33 CFR 117.35.

Dated: August 18, 2010.
Waverly W. Gregory, Jr.,
Bridge Administrator, Fifth Coast Guard District.

[FR Doc. 2010-22033 Filed 9-2-10; 8:45 am]

BILLING CODE 9110-04-P